DEPARTMENT OF HOMELAND SECURITY

Federal Emergency Management Agency

44 CFR Part 65

[Docket No. FEMA-B-7780]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changed BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief Executive Officer of Community | Effective date of modification | Community No.
Alabama: Madison | Unincorporated areas of Madison County (07-04-6424P) | March 7, 2008, March 14, 2008, Madison County Record | The Honorable Mike Gillespie, Chairman, Madison County Commission, 100 Northside Square, Huntsville, AL 35801 | July 14, 2008 | 010151
Arizona: Pinal | City of Casa Grande (08-09-0418P) | April 9, 2008, April 16, 2008, Copper Basin News | The Honorable Robert M. Jackson, Mayor, City of Casa Grande, 510 East Florence Boulevard, Casa Grande, AZ 85222 | April 25, 2008 | 040080
Colorado:
El Paso | City of Colorado Springs (07-08-0678P) | April 2, 2008, April 9, 2008, El Paso County News | The Honorable Lionel Rivera, Mayor, City of Colorado Springs, P.O. Box 1575, Colorado Springs, CO 80901 | March 25, 2008 | 080060
El Paso | City of Colorado Springs (07-08-0679P) | March 5, 2008, March 12, 2008, El Paso County News | The Honorable Lionel Rivera, Mayor, City of Colorado Springs, P.O. Box 1575, Colorado Springs, CO 80901 | July 11, 2008 | 080060
Jefferson | City of Lakewood (08-08-0234P) | March 20, 2008, March 27, 2008, The Golden Transcript | The Honorable Bob Murphy, Mayor, City of Lakewood, 480 South Allison Parkway, Lakewood, CO 80226-3127 | March 11, 2008 | 085075
Jefferson | City of Lakewood (08-08-0276P) | April 10, 2008, April 17, 2008, The Golden Transcript | The Honorable Bob Murphy, Mayor, City of Lakewood, 480 South Allison Parkway, Lakewood, CO 80226-3127 | August 18, 2008 | 085075
Jefferson | City of Wheat Ridge (08-08-0276P) | April 10, 2008, April 17, 2008, The Golden Transcript | The Honorable Jerry DiTullio, Mayor, City of Wheat Ridge, 7500 West 29th Avenue, Wheat Ridge, CO 80033 | August 18, 2008 | 085079
Summit | Town of Silverthorne (07-08-0747P) | April 4, 2008, April 11, 2008, Summit County Journal | The Honorable Dave Koop, Mayor, Town of Silverthorne, P.O. Box 1002, Silverthorne, CO 80498 | August 11, 2008 | 080201
Florida:
Polk | City of Lakeland (08-04-0475P) | February 27, 2008, March 5, 2008, Polk County Democrat | The Honorable Ralph L. Fletcher, Mayor, City of Lakeland, 228 South Massachusetts Avenue, Lakeland, FL 33801 | February 20, 2008 | 120267
Polk | Unincorporated areas of Polk County (08-04-0620P) | February 13, 2008, February 20, 2008, Polk County Democrat | The Honorable Bob English, Chairman, Polk County Board of Commissioners, P.O. Box 9005, Drawer BC01, Bartow, FL 33831 | May 21, 2008 | 120261
Sarasota | City of Sarasota (08-04-0422P) | March 6, 2008, March 13, 2008, Sarasota Herald-Tribune | The Honorable Lou Ann Palmer, Mayor, City of Sarasota, 1565 First Street, Suite 101, Sarasota, FL 34236 | February 28, 2008 | 125150
Sarasota | City of Sarasota (08-04-0621P) | April 4, 2008, April 11, 2008, Sarasota Herald-Tribune | The Honorable Lou Ann Palmer, Mayor, City of Sarasota, 1565 First Street, Room 101, Sarasota, FL 34236 | March 28, 2008 | 125150
Georgia: Barrow | Unincorporated areas of Barrow County (08-04-0478P) | March 5, 2008, March 12, 2008, Barrow County News | The Honorable Douglas H. Garrison, Chairman, Barrow County, Board of Commissioners, 233 East Broad Street, Winder, GA 30680 | July 11, 2008 | 130497
Hawaii:
Hawaii | Unincorporated areas of Hawaii County (08-09-0081P) | April 3, 2008, April 10, 2008, Hawaii Tribune-Herald | The Honorable Harry Kim, Mayor, Hawaii County, 25 Aupuni Street, Room 215, Hilo, HI 96720 | August 8, 2008 | 155166
Hawaii | Unincorporated areas of Hawaii County (08-09-0102P) | April 3, 2008, April 10, 2008, Hawaii Tribune-Herald | The Honorable Harry Kim, Mayor, Hawaii County, 25 Aupuni Street, Room 215, Hilo, HI 96720 | March 25, 2008 | 155166
Idaho:
Ada | Unincorporated areas of Ada County (07-10-0641P) | April 4, 2008, April 11, 2008, Idaho Statesman | The Honorable Fred Tilman, Chairman, Ada County Board of Commissioners, 200 West Front Street, Boise, ID 83702 | August 11, 2008 | 160001
Ada | City of Meridian (07-10-0641P) | April 4, 2008, April 11, 2008, Idaho Statesman | The Honorable Tammy de Weerd, Mayor, City of Meridian, 33 East Idaho Avenue, Meridian, ID 83642-2300 | August 11, 2008 | 160180
Illinois:
DuPage | City of Aurora (08-05-0818P) | April 3, 2008, April 10, 2008, Beacon News | The Honorable Thomas J. Weisner, Mayor, City of Aurora, 44 East Downer Place, Aurora, IL 60507 | March 25, 2008 | 170320
DuPage | Village of Glen Ellyn (08-05-1365P) | April 11, 2008, April 18, 2008, Wheaton Sun | The Honorable Gregory S. Mathews, President, Village of Glen Ellyn, 535 Duane Street, Glen Ellyn, IL 60137 | August 18, 2008 | 170207
Grundy | Unincorporated areas of Grundy County (08-05-0597P) | March 21, 2008, March 28, 2008, Herald News | The Honorable Francis E. Halpin, Chairman, Grundy County Board, 1320 Union Street, Morris, IL 60450 | April 14, 2008 | 170256
Grundy | City of Morris (08-05-0597P) | March 21, 2008, March 28, 2008, Herald News | The Honorable Richard Kopczick, Mayor, City of Morris, 320 Wauponsee Street, Morris, IL 60450 | April 14, 2008 | 170263
Will | City of Joliet (07-05-5618P) | March 20, 2008, March 27, 2008, Herald News | The Honorable Arthur Schultz, Mayor, City of Joliet, 150 West Jefferson Street, Joliet, IL 60431 | March 10, 2008 | 170702
Will | Village of Mokena (08-05-0765P) | March 20, 2008, March 27, 2008, Herald News | The Honorable Joseph W. Werner, Village President, Village of Mokena, 11004 Carpenter Street, Mokena, IL 60448 | April 14, 2008 | 170705
Will | City of Naperville (08-05-0551P) | March 6, 2008, March 13, 2008, Naperville Sun | The Honorable A. George Pradel, Mayor, City of Naperville, 400 South Eagle Street, Naperville, IL 60540 | February 29, 2008 | 170213
Will | Village of Shorewood (08-05-1364P) | March 28, 2008, April 4, 2008, Herald News | The Honorable Richard E. Chapman, President, Village of Shorewood, 903 West Jefferson Street, Shorewood, IL 60404 | March 24, 2008 | 170712
Will | Unincorporated areas of Will County (08-05-0551P) | March 6, 2008, March 13, 2008, Naperville Sun | The Honorable Lawrence M. Walsh, Will County Executive, 302 North Chicago Street, Joliet, IL 60432 | February 29, 2008 | 170695
Kansas: Sedgwick | City of Wichita (07-07-1695P) | April 4, 2008, April 11, 2008, Wichita Eagle | The Honorable Carl Brewer, Mayor, City of Wichita, 455 North Main Street, Wichita, KS 67202 | March 27, 2008 | 200328
Massachusetts: Barnstable | Town of Falmouth (07-01-1083P) | April 3, 2008, April 10, 2008, Cape Cod Times | The Honorable Kevin E. Murphy, Chairman, Board of Selectmen, 59 Town Hall Square, Falmouth, MA 02540 | August 8, 2008 | 255211
Minnesota: Dakota | City of Lakeville (08-05-0668P) | April 3, 2008, April 10, 2008, Lakeville Sun Current | The Honorable Holly Dahl, Mayor, City of Lakeville, 20195 Holyoke Avenue, Lakeville, MN 55044 | March 26, 2008 | 270107
Missouri:
Jackson | City of Grain Valley (07-07-1749P) | April 7, 2008, April 14, 2008, The Blue Springs Examiner | The Honorable David Halphin, Mayor, City of Grain Valley, 711 Main Street, Grain Valley, MO 64029 | August 14, 2008 | 290737
Taney | City of Branson (07-07-1909P) | March 7, 2008, March 14, 2008, Branson Daily News | The Honorable Raeanne Presley, Mayor, City of Branson, 110 West Maddux Street, Branson, MO 65616 | July 14, 2008 | 290436
Taney | City of Hollister (07-07-1909P) | March 7, 2008, March 14, 2008, Branson Daily News | The Honorable David G. Tate, Mayor, City of Hollister, 312 Esplanade Street, Hollister, MO 65373 | July 14, 2008 | 290437
Taney | Unincorporated areas of Taney County (07-07-1909P) | March 7, 2008, March 14, 2008, Branson Daily News | The Honorable Chuck Pennel, Presiding Commissioner, Taney County Commission, P.O. Box 383, Forsyth, MO 65653 | July 14, 2008 | 290435
South Carolina:
Greenville | Unincorporated areas of Greenville County (08-04-0619P) | March 7, 2008, March 14, 2008, The Greenville News | The Honorable Butch Kirven, Chairman, Greenville County Council, 213 League Road, Simpsonville, SC 29681 | July 11, 2008 | 450089
Richland | Unincorporated areas of Richland County (07-04-3534P) | March 7, 2008, March 14, 2008, Columbia Star | The Honorable Joseph McEachern, Chairman, Richland County Council, 2020 Hampton Street, Suite 4069, Columbia, SC 29202 | July 14, 2008 | 450170
Richland | Unincorporated areas of Richland County (08-04-1671P) | March 7, 2008, March 14, 2008, Columbia Star | The Honorable Joseph McEachern, Chairman, Richland County Council, 2020 Hampton Street, Second Floor, Columbia, SC 29202 | July 14, 2008 | 450170
Tennessee:
Davidson | Metropolitan Government of Nashville & Davidson County (08-04-0137P) | March 6, 2008, March 13, 2008, The Tennessean | The Honorable Bill Purcell, Mayor, Metropolitan Government of Nashville and Davidson County, 107 Metropolitan Courthouse, Nashville, TN 37201 | July 11, 2008 | 470040
Madison | City of Jackson (07-04-4683P) | March 7, 2008, March 14, 2008, Jackson Sun | The Honorable Jerry Gist, Mayor, City of Jackson, 121 East Main Street, Suite 301, Jackson, TN 38301 | March 31, 2008 | 470113
Wilson | City of Lebanon (08-04-0116P) | March 7, 2008, March 14, 2008, Wilson Post | The Honorable Donald W. Fox, Mayor, City of Lebanon, 200 North Castle Heights Avenue, Suite 100, Lebanon, TN 37087 | July 21, 2008 | 470208
Wilson | Unincorporated areas of Wilson County (08-04-0116P) | March 7, 2008, March 14, 2008, Wilson Post | The Honorable Robert Dedman, Mayor, Wilson County, 228 East Main Street, Lebanon, TN 37087 | July 21, 2008 | 470207
Texas:
Collin | Town of Prosper (08-06-0164P) | April 3, 2008, April 10, 2008, Allen American | The Honorable Charles Niswanger, Mayor, Town of Prosper, P.O. Box 307, Prosper, TX 75078 | August 8, 2008 | 480141
Dallas | City of Coppell (07-06-2203P) | April 2, 2008, April 9, 2008, Coppell Gazette | The Honorable Douglas N. Stover, Mayor, City of Coppell, P.O. Box 9478, Coppell, TX 75019 | April 24, 2008 | 480170
El Paso | City of El Paso (07-06-2485P) | April 3, 2008, April 10, 2008, El Paso Times | The Honorable John Cook, Mayor, City of El Paso, Two Civic Center Plaza, Tenth Floor, El Paso, TX 79901 | March 27, 2008 | 480214
Tarrant | City of Bedford (08-06-1343P) | March 7, 2008, March 14, 2008, Colleyville Courier | The Honorable Jim Story, Mayor, City of Bedford, 2000 Forest Ridge Drive, Bedford, TX 76021 | June 13, 2008 | 480585
Tarrant | City of Euless (08-06-1343P) | March 7, 2008, March 14, 2008, Colleyville Courier | The Honorable Mary Lib Saleh, Mayor, City of Euless, 201 North Ector Drive, Euless, TX 76039 | June 13, 2008 | 480593
Tarrant | City of Keller (08-06-0002P) | March 28, 2008, April 4, 2008, Keller Citizen | The Honorable Pat McGrail, Mayor, City of Keller, P.O. Box 770, Keller, TX 76244 | August 4, 2008 | 480602
Travis | Unincorporated areas of Travis County (07-06-1238P) | April 3, 2008, April 10, 2008, Austin American-Statesman | The Honorable Samuel T. Biscoe, Travis County Judge, 314 West 11th Street, Suite 520, Austin, TX 78701 | August 8, 2008 | 481026

(Catalog of Federal Domestic Assistance No. 97.022, “Flood Insurance.”)
Dated: May 7, 2008.
David I. Maurstad,
Federal Insurance Administrator of the National Flood Insurance Program, Department of Homeland Security, Federal Emergency Management Agency.

[FR Doc. E8-10869 Filed 5-14-08; 8:45 am]

BILLING CODE 9110-12-P